DEPARTMENT OF THE INTERIOR

Bureau of Land Management, Burley Field Office

[ID-077-1220-HQ]

Notice of Closure of Public Land in Twin Falls County, ID

AGENCY: Bureau of Land Management, Interior.

ACTION: Notice of closure of public lands in Twin Falls County, Idaho.

SUMMARY: Notice is hereby given that certain lands in Twin Falls County, Idaho shall be closed to entry for all uses due to extreme environmental hazards. There is an active landslide on the east rim of the Salmon Falls Creek Canyon that poses a great threat to the safety of the public visiting the area. The area is known as Bluegill Lake or Sinking Canyon, and is located 6.5 miles west of Buhl, ID. The legal land description of the closure is as follows:

T. 9S., R 13E., Boise Meridian

Section 26: SE¼ NE¼, NE¼ SE¼, SE¼ SE¼.

Exceptions to this order are granted to the following:

Law enforcement and emergency services personnel.

Administratively approved access for actions such as monitoring and research studies.

EFFECTIVE DATE: This closure is effective immediately, and shall remain effective until rescinded by the Authorized Officer.

FOR FURTHER INFORMATION CONTACT: Theresa Hanley, Burley Field Manager, 15 East 200 South, Burley, ID 83318. Telephone (208) 677-6641. A map showing the public lands that have been closed is available at the BLM Burley Field Office.

SUPPLEMENTARY INFORMATION: Authority for this closure may be found in 43 CFR 8364.1. Any person who fails to comply with this closure under this subpart may be subject to the penalties provided in 8360.0-7 of this title.

Dated: April 6, 2001.
Theresa M. Hanley,
Burley Field Manager.

[FR Doc. 01-10915 Filed 5-1-01; 8:45 am]

BILLING CODE 4310-GG-P